DEPARTMENT OF DEFENSE

Office of the Secretary

Department of Defense Task Force on the Care, Management, and Transition of Recovering Wounded, Ill, and Injured Members of the Armed Forces; Notice of Federal Advisory Committee Meeting

AGENCY: Office of the Assistant Secretary of Defense, Department of Defense.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the following Federal Advisory Committee meeting of the Department of Defense Task Force on the Care, Management, and Transition of Recovering Wounded, Ill, and Injured Members of the Armed Forces (subsequently referred to as the Task Force) will take place.

DATES: Tuesday, February 26, 2013, from 8:00 a.m. to 5:15 p.m. EDT and Wednesday, February 27, 2013, from 8:00 a.m. to 5:00 p.m. EDT.

ADDRESSES: DoubleTree by Hilton Hotel Washington DC-Crystal City, 300 Army Navy Drive, Arlington, VA 22202.

FOR FURTHER INFORMATION CONTACT: Mail Delivery service through Recovering Warrior Task Force, Hoffman Building II, 200 Stovall St., Alexandria, VA 22332-0021 “Mark as Time Sensitive for February Meeting”. Emails to rwtf@wso.whs.mil. Denise F. Dailey, Designated Federal Officer; Telephone (703) 325-6640. Fax (703) 325-6710.

SUPPLEMENTARY INFORMATION: Purpose of the Meeting: The purpose of the meeting is for the Task Force Members to convene and gather data from panels and briefers on the Task Force's topics of inquiry.

Agenda: (Refer to http://dtf.defense.gov/rwtf/meetings.html for the most up-to-date meeting information).

Day One: Tuesday, February 26, 2013

8:00 a.m.-9:00 a.m. Welcome and Site Visit Review

9:00 a.m.-10:00 a.m. Army Response to RWTF FY12 Recommendations

10:00 a.m.-10:15 a.m. Break

10:15 a.m.-12:00 p.m. Army Warrior Transition Command Survey Program

12:00 p.m.-1:00 p.m. Additional Questions for Army Warrior Transition Command

1:00 p.m.-2:00 p.m. Break for Lunch

2:00 p.m.-3:00 p.m. Air Force Response to RWTF FY12 Recommendations

3:00 p.m.-3:45 p.m. Air Force Warrior and Survivor Care Survey Program

3:45 p.m.-4:00 p.m. Break

4:00 p.m.-5:00 p.m. Air Force Warrior and Survivor Care Survey Program (continued)

5:00 p.m.-5:15 p.m. Wrap Up

Day Two: Wednesday, February 27, 2013

8:00 a.m.-9:00 a.m. Welcome and Admin

9:00 a.m.-9:15 a.m. Public Forum

9:15 a.m.-10:15 a.m. Navy Safe Harbor Response to RWTF FY12 Recommendations

10:15 a.m.-10:30 a.m. Break

10:30 a.m.-12:15 p.m. Navy Harbor Survey Program

12:15 p.m.-1:15 p.m. Break for Lunch

1:15 p.m.-2:15 p.m. Marine Corps Response to RWTF FY12 Recommendations

2:15 p.m.-3:00 p.m. Marine Corps Wounded Warrior Regiment Survey Program

3:00 p.m.-3:15 p.m. Break

3:15 p.m.-4:15 p.m. Marine Corps Wounded Warrior Regiment Survey Program (continued)

4:45 p.m.-5:00 p.m. Wrap Up

Public's Accessibility to the Meeting: Pursuant to 5 U.S.C. 552b and 41 CFR 102-3.140 through 102-3.165, and the availability of space, this meeting is open to the public. Seating is on a first-come basis.

Pursuant to 41 CFR 102-3.105(j) and 102-3.140, and section 10(a)(3) of the Federal Advisory Committee Act of 1972, the public or interested organizations may submit written statements to the Department of Defense Task Force on the Care, Management, and Transition of Recovering Wounded, Ill, and Injured Members of the Armed Forces about its mission and functions. If individuals are interested in making an oral statement during the Public Forum time period, a written statement for a presentation of two minutes must be submitted and must identify it is being submitted for an oral presentation by the person making the submission. Identification information must be provided and at a minimum must include a name and a phone number. Individuals may visit the Task Force Web site at http://dtf.defense.gov/rwtf/to view the Charter. Individuals making presentations will be notified by Wednesday, February 20, 2013. Oral presentations will be permitted only on Wednesday, February 27, 2013 from 9:00 a.m. to 9:15 a.m. EDT before the Task Force. The number of oral presentations will not exceed ten, with one minute of questions available to the Task Force members per presenter. Presenters should not exceed their two minutes.

Written statements in which the author does not wish to present orally may be submitted at any time or in response to the stated agenda of a planned meeting of the Department of Defense Task Force on the Care, Management, and Transition of Recovering Wounded, Ill, and Injured Members of the Armed Forces.

All written statements shall be submitted to the Designated Federal Officer for the Task Force through the contact information in FOR FURTHER INFORMATION CONTACT, and this individual will ensure that the written statements are provided to the membership for their consideration.

Statements, either oral or written, being submitted in response to the agenda mentioned in this notice must be received by the Designated Federal Officer at the address listed in FOR FURTHER INFORMATION CONTACT no later than 5:00 p.m. EDT, Monday, February 18, 2013 which is the subject of this notice. Statements received after this date may not be provided to or considered by the Task Force until its next meeting. Please mark mail correspondence as “Time Sensitive for February Meeting.”

The Designated Federal Officer will review all timely submissions with the Task Force Co-Chairs and ensure they are provided to all members of the Task Force before the meeting that is the subject of this notice.

Reasonable accommodations will be made for those individuals with disabilities who request them. Requests for additional services should be directed to Ms. Heather Moore, (703) 325-6640, by 5:00 p.m. EDT, Monday, February 18, 2013.

Dated: January 29, 2013.
Aaron Siegel,
Alternate OSD Federal Register Liaison Officer, Department of Defense.

[FR Doc. 2013-02172 Filed 1-31-13; 8:45 am]

BILLING CODE 5001-06-P